TENNESSEE VALLEY AUTHORITY

18 CFR Part 1315

New Restrictions on Lobbying

AGENCY: Tennessee Valley Authority.

ACTION: Final rule.

SUMMARY: The Tennessee Valley Authority is amending its rules regarding restrictions on lobbying to make inflation adjustments in the range of civil monetary penalties it may assess against persons who violate these rules. These adjustments are required by the Federal Civil Penalties Inflation Adjustment Act of 1990, as amended.

EFFECTIVE DATE: March 5, 2002.

FOR FURTHER INFORMATION CONTACT: Clifford L. Beach, Jr., Attorney, 865-632-4146, Office of the General Counsel, Tennessee Valley Authority, 400 West Summit Hill Drive, ET 10A, Knoxville, Tennessee 37902-1401.

SUPPLEMENTARY INFORMATION: Section 4 of the “Federal Civil Penalties Inflation Adjustment Act of 1990” (Public Law 101-410), as amended by the “Debt Collection Improvement Act of 1996” (Public Law 104-134), requires each Federal agency with statutory authority to assess a civil monetary penalty (CMP) to adjust each CMP by the inflation adjustment described in section 5 of the Act. Such adjustment is to be made by regulation published in the Federal Register. Agencies are to make inflation adjustments by regulation at least once every four years. Any increase in a CMP made pursuant to the Act applies only to violations that occur after the date the increase takes effect.

TVA's only statutory authority to assess a CMP is found at 31 U.S.C. 1352(c), which describes the range of penalties TVA may impose for a violation of that statute's prohibition against use of appropriated funds to pay any person for influencing or attempting to influence a Federal official in connection with any Federal action and for a failure to file a declaration or a declaration amendment as required by that statute. The penalties to be imposed for such violations and failures to file range from $11,000 to not more than $110,000. Based on application of the standard inflation adjustment formula in the Act, TVA is amending its rules at 18 CFR 1315.400(a), (b), and (e) to increase the minimum CMP it may assess under 31 U.S.C. 1352(c) to $12,000 and the maximum CMP it may assess under the statute to $120,000.

Matters of Regulatory Procedures

Notice and an opportunity for public comment are not necessary prior to issuance of this final rule because it implements a definitive statutory formula mandated by the Act.

The Paperwork Reduction Act (44 U.S.C. chapter 35) does not apply because this rule does not contain any information collection requirements that require the approval of the Office of Management and Budget.

List of Subjects in 18 CFR Part 1315

Administrative practice and procedures, Penalties.

Accordingly, for the reasons set out in the preamble, 18 CFR part 1315 is amended as follows:

PART 1315—NEW RESTRICTIONS ON LOBBYING

1. The authority citation for part 1315 is revised to read as follows:

Authority: 16 U.S.C. 831-831ee; 31 U.S.C. 1352.

2. Section 1315.400 is amended by removing the figure “$11,000” and adding in its place “$12,000” each time it appears in paragraphs (a) and (b); by removing the figure “$110,000” and adding in its place “$120,000” each time it appears in paragraphs (a) and (b); by removing the figure “$10,000” and adding in its place “$12,000” each time it appears in paragraph (e); and by removing the figure “$100,000” and adding in its place “120,000” in paragraph (e).

Dated: February 6, 2002.
Clifford L. Beach, Jr.,
Attorney.

[FR Doc. 02-5014 Filed 3-4-02; 8:45 am]

BILLING CODE 8120-08-M